ENVIRONMENTAL PROTECTION AGENCY

[EPA-HQ-OPP-2020-0049; FRL-10005-55]

Pesticide Product Registration; Receipt of Applications for New Active Ingredients

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before April 2, 2020.

ADDRESSES: Submit your comments, identified by docket identification (ID) number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets.

Additional instructions on commenting or visiting the docket, along with more information about dockets generally, is available at https://www.epa.gov/dockets/about-epa-dockets.

FOR FURTHER INFORMATION CONTACT: Michael Goodis, Registration Division (7505P), main telephone number: (703) 305-7090, email address: RDFRNotices@epa.gov; or, Robert McNally, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications. For actions being evaluated under EPA's public participation process for registration actions, there will be an additional opportunity for public comment on the proposed decisions. Please see EPA's public participation website for additional information on this process (http://www2.epa.gov/pesticide-registration/public-participation-process-registration-actions).

A. Notice of Receipt—New Active Ingredients

1. EPA Registration Number: 100-1467,100-1462, 100-1463 and 100-1465. Docket ID number: EPA-HQ-OPP-2019-0542. Applicant: Syngenta Crop Protection, LLC, P. O. Box 18300, Greensboro, NC 27419. Product name: Bicyclopyrone technical, bicyclopyrone wet paste manufacturing use product, bicyclopyrone wet paste II manufacturing use product and SYN-A 16003 Herbicide. Active ingredient: Bicyclopyrone at 99.3% (Technical Herbicide), 94% (Manufacturing Use Product), 89.6% (II Manufacturing Use Product) and 18.5% (A 16003 Herbicide). Proposed use: Lemongrass, dried; lemongrass, fresh; rosemary, dried; rosemary, fresh; wormwood, dried and wormwood, fresh. Contact: RD.

2. EPA Registration Number: 71711-43 and 71711-44. Docket ID number: EPA-HQ-OPP-2019-0580. Applicant: Nichino America, Inc, 4550 Linden Hill Road, Suite 501, Wilmington, Delaware 19808 Product name: Orthosulfamuron technical and strada herbicide. Active ingredient: Orthosulfamuron at 99% (technical herbicide) and 50% (strada herbicide). Proposed use: Almond, hulls; small fruit vine climbing subgroup, except fuzzy kiwifruits (crop subgroup 13-07F) and tree nuts (crop group 14-12). Contact: RD.

3. EPA Registration Number: 71711-AU and 71711-AG. Docket ID number: EPA-HQ-OPP-2020-0004. Applicant: Nichino America, Inc., 4550 Linden Hill Road, Suite 501, Wilmington, DE 19808. Product name: Pyraclonil technical and pyraclonil 1.8% granule herbicide. Active ingredient: Herbicide—pyraclonil at 98.2% (pyraclonil technical) and 1.8% (pyraclonil 1.8% granule herbicide). Proposed use: Rice. Contact: FHB.

4. File Symbol: 73049-LRE. Docket ID number: EPA-HQ-OPP-2019-0347. Applicant: Valent BioSciences LLC, 870 Technology Way, Libertyville, IL 60048. Product name: Aviglycine technical concentrate. Active ingredient: Plant growth regulator—aminoethoxyvinylglycine at 22.0%. Proposed use: For formulation into plant growth regulator end-use products for use on apple and pear. Contact: BPPD.

5. File Symbol: 73049-LRG. Docket ID number: EPA-HQ-OPP-2019-0347. Applicant: Valent BioSciences LLC, 870 Technology Way, Libertyville, IL 60048. Product name: ReTain OL plant growth regulator liquid concentrate. Active ingredient: Plant growth regulator—aminoethoxyvinylglycine at 12.6%. Proposed use: For use as a plant growth regulator applied via foliar application to apple and pear. Contact: BPPD.

(Authority: 7 U.S.C. 136 et seq.)

Dated: February 19, 2020.
Delores Barber,
Director, Information Technology and Resources Management Division, Office of Pesticide Programs.

[FR Doc. 2020-04264 Filed 3-2-20; 8:45 am]

BILLING CODE 6560-50-P